NATIONAL SCIENCE FOUNDATION

Proposal Review Panel for Computing and Communication Foundation; Notice of Meeting

In accordance with the Federal Advisory Committee Act (Pub. L. 92-463, as amended), the National Science Foundation announces the following meeting:

Name: Proposal Panel Review for Computing and Communication Foundations; Expeditions in Computing Program (#1192) Site Visit.

Date/Time: November 30, 2015, 7 p.m.-9 p.m.; December 1, 2015, 8 a.m.-8 p.m.; December 2, 2015, 8:30 a.m.-3 p.m.

Place: Penn State University, University Park, PA.

Type of Meeting: Partially Closed.

Contact Person: Ephraim Glinert, National Science Foundation, 4201 Wilson Boulevard, Room 1125, Arlington, VA 22230. Telephone: (703) 292-8930.

Purpose of Meeting: Site visit to assess the progress of the EIC Award: 1317560, “Collaborative Research: Visual Cortex on Silicon”, and to provide advise and recommendations concerning further NSF support for the Center.

Agenda: EIC Site Visit.

Monday, November 30, 2015

7 p.m. to 9 p.m.: Closed.

Site Team and NSF Staff meets to discuss Site Visit materials, review process and charge.

Tuesday, December 1, 2015

8 a.m. to 1 p.m.: Open.

Presentations by Awardee Institution, faculty staff and students to Site Team and NSF Staff. Discussions, question and answer sessions.

1 p.m.-8 p.m.: Closed.

Draft report on education and research activities.

Wednesday, December 2, 2015

8:30 a.m.-Noon: Open.

Response presentations by Awardee Institution faculty staff to Site Team and NSF Staff. Discussions, question and answer sessions.

Noon to 3 p.m.: Closed.

Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: October 30, 2015.
Crystal Robinson,
Committee Management Officer.

[FR Doc. 2015-28450 Filed 11-6-15; 8:45 am]

BILLING CODE 7555-01-P